DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 11, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal Plant and Health Inspection Service

Title: Export Certification, Accreditation of Non-Government Facilities.

OMB Control Number: 0579-0130.

Summary of Collection: The Department of Agriculture (USDA), Animal and Plant Health Inspection Service (APHIS) is responsible for preventing plant diseases or insect pests from entering the United States, as well as, the spread of pests not widely distributed in the United States, and eradicating those imported when eradication is feasible. The Plant Protection Act (7 U.S.C. 7701 et seq.), authorizes the Department to carry out this mission. In addition to its mission, APHIS provides export certification services to ensure other countries that the plants and plant products they are receiving from the United States are free of plant diseases and insect pests.

Need and Use of the Information: The accreditation process requires the use of several information activities to ensure that nongovernment facilities applying for accreditation processes the necessary qualifications. APHIS will collect information for applications submitted by operator/owner of a non-government facility seeking accreditation to conduct laboratory testing or phytosanitary inspection. The application should contain the legal name and full address of the facility, the name, address, telephone and fax numbers of the facility's operator, a description of the facility, and a description of the specific laboratory testing or phytosanitary inspection services for which the facility is seeking accreditation. If these activities are not conducted properly, APHIS export certification program would be compromised, causing a disruption in plant and plant product exports that could prove financially damaging to U.S. exporters.

Description of Respondents: Business or other for profit; State, local and Tribal government.

Number of Respondents: 9.

Frequency of Responses: Reporting: on occasion.

Total Burden Hours: 209.

Animal and Plant Health Inspection Service

Title: Importation of Live Swine (from Certain Regions), Pork, and Pork Products.

OMB Control Number: 0579-0230.

Summary of Collection: The Animal Health Protection Act (AHPA) of 2002 is the primary Federal law governing the protection of animal health. The law gives the Secretary of Agriculture broad authority to detect, control, or eradicate pests or diseases of livestock or poultry. The regulations under which the Animal and Plant Health Inspection Service (APHIS) conducts disease prevention activities are contained in title 9, chapter 1, subchapter D, part 94. These regulations place certain restrictions on the importation of swine, pork, and pork products into the United States. Regulations regarding other animal products and byproducts can be found at 95 and 112.

Need and Use of the Information: APHIS will collect information to ensure regulatory compliance for mitigation of classical swine fever (CSF) from imports of swine (from certain regions), pork, and pork products into the United States. To ensure this the regulations include information collection activities such as certification for importation of pork or pork products; application of seal; location and reason for breaking seal and application of new seal; termination of agreement; request for approval of defrost facility; request hearing for denial or approval of defrost facility; application for import of small amounts of pork or pork products; cooperative service agreement; notification of Customs and Border Protection inspectors for pork from specific regions; recordkeeping requirements for certificates; certificates for meat processed in tubes; certification for importation of hams; agreement for processing procedures; identification procedures; recordkeeping for processing origin of hams; and program statements.

If this information were collected less frequently or not collected at all, the United States would be at increased risk for the introduction of rinderpest, FMD, SF, CSF and SVD. This would cause serious economic consequences to U.S. Agricultural exports and several U.S. livestock industries, and have potentially serious health consequences for U.S. livestock.

Description of Respondents: Full-time, salaried veterinary officers employed by the governments of Brazil, Chile, and Mexico; industry representatives; and U.S. importers.

Number of Respondents: 781.

Frequency of Responses: Reporting: On occasion.

Total Burden Hours: 179,712.

Ruth Brown,
Departmental Information Collection Clearance Officer.

[FR Doc. 2023-17193 Filed 8-10-23; 8:45 am]

BILLING CODE 3410-34-P